DEPARTMENT OF THE INTERIOR

Bureau of Land Management

[PO4820000251]

Notice To Establish a New Recreation Fee Area on Public Lands Managed by the Salmon Field Office, Idaho

AGENCY: Bureau of Land Management, Interior.

ACTION: Notice of intent.

SUMMARY: Pursuant to the Federal Lands Recreation Enhancement Act (FLREA), the Bureau of Land Management (BLM), Salmon Field Office will establish a fee program for a reservable rental cabin known as Tarpons Roost, constructed on the Continental Divide near Lemhi Pass, in Lemhi County, Idaho.

DATES: Starting July 17, 2025, the BLM will have the option to initiate the proposed fees unless the BLM publishes a Federal Register notice to the contrary.

ADDRESSES: Copies of relevant supporting documents for this action may be reviewed at the BLM Salmon Field Office, 1206 South Challis St., Salmon, ID 83467; or the BLM Idaho Falls District Office, 1405 Hollipark Drive, Idaho Falls, ID 83401 and online at: https://on.doi.gov/3qfe3I0.

FOR FURTHER INFORMATION CONTACT: Travis Seaberg, outdoor recreation planner, BLM Salmon Field Office, email: BLM_ID_SalmonOffice@blm.gov; telephone: (208) 756-5400. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM is committed to provide and receive fair value for the use of developed recreation facilities and services in a manner that meets public use demands, provides quality experiences, and protects important resources. The BLM's policy is to collect fees at specialized recreation sites, or where the BLM provides facilities, equipment, or services, at Federal expense, in connection with outdoor use. To meet anticipated demands for services and maintenance at Tarpons Roost, the BLM will establish a fee program for cabin facility use. This fee will be used for the maintenance and yearly operations cost of Tarpons Roost. Starting July 17, 2025, the BLM will initiate the approved $75 per night expanded amenity fee.

The FLREA directs the Secretary of the Interior and Secretary of Agriculture to publish an advance notice in the Federal Register whenever new recreation fee areas are established under their respective jurisdictions. In accordance with BLM policy, the Salmon Field Office Recreation Fee Sites Business Plan explains the fee collection process and how fees will be used at this site. The BLM Idaho Resource Advisory Council, functioning as a Recreation Resource Advisory Committee, reviewed and concurred with the proposal to charge fees at Tarpons Roost in May 2024, following the FLREA guidelines. Fee amounts will be posted on-site and at the BLM Salmon Field Office. Copies of the business plan will be available at the BLM Salmon Field Office and BLM Idaho Falls District Office as listed in the ADDRESSES section. Any future adjustments in the fee amount will be made following the Salmon Field Office Recreation Fee Sites Business Plan and after consultation with the BLM Idaho Resource Advisory Council and other public notice.

Tarpons Roost was analyzed and approved in the 2018 Continental Divide Trail Cabin Environmental Assessment (DOI-BLM-ID-I040-2012-0034-EA) and subsequent Record of Decision, available at https://eplanning.blm.gov/eplanning-ui/project/33052/510. Recreation use fees would be consistent with other established fee sites in the area managed by the BLM and other Federal and State land management agencies.

(Authority: 16 U.S.C. 6803(b))

Robert Taylor,
Acting BLM Idaho Falls District Manager.

[FR Doc. 2025-01219 Filed 1-16-25; 8:45 am]

BILLING CODE 4331-19-P